DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau.

Title: 2017 Census Test.

OMB Control Number: 0607-XXXX.

Form Number(s):

Questionnaire

DG-1D

DG-1D(E/S)

Questionnaire Cover Letters

DG-16(L1)

DG-16(L1) (E/S)

DG-16(L2)

DG-16(L2) (E/S)

DG-16(L3)

DG-16(L3) (E/S)

DG-16(L4)

DG-16(L4) (E/S)

DG-17(L1)

DG-17(L1) (E/S)

Postcards

DG-9C

DG-9C(E/S)

DG-9P

DG-9P(E/S)

DG-9

DG-9(E/S)

Information Insert

DG-17I(E/S)

DG-17(CQA)

Envelopes

DG-5(E/S)

DG-6A (1) (IN)(E/S)

DG-6A(IN)(E/S)

DG-6B(IN)(E/S)

DG-8A(E/S)

Type of Request: New Collection.

Number of Respondents: 43,500.

Average Hours per Response: 9.5 minutes.

Burden Hours: 6,875 hours.

Estimated Burden Hours
Type of respondent/operation | Estimated number of responding housing units | Estimated time per response | Estimated total annual burden hours
Self-Response | 36,000 | 10 minutes | 6,000
Content Reinterview | 7,500 | 7 minutes | 875
Totals | 43,500 |  | 6,875

Needs and Uses:

During the years preceding the 2020 Census, the Census Bureau is pursuing its commitment to reducing the cost of conducting the census while maintaining the quality of the results. Testing of the feasibility of collecting tribal enrollment information is the primary objective of this test. A sample of 80,000 households will be drawn for a self-response-only operation, oversampled in areas with relatively higher concentrations of people identifying as American Indian or Alaska Native, as indicated through American Community Survey data.

These households will be mailed census questionnaires and other materials that provide details about the available modes of response, including Internet. Census Questionnaire Assistance (CQA) will offer the option for completing the questionnaire on the telephone, as well as language assistance with completing the questionnaire and Interactive Voice Recognition to answer respondent questions and route calls appropriately.

Self-response to the test can occur through Internet, paper questionnaire or telephone modes. There will be no follow-up field operation to obtain response. However, there will be a sample of 15,000 housing units selected for reinterview to check the quality of responses to the tribal enrollment question. Responses received to both the self-enumeration and the reinterview will be used for the test results and evaluation.

A second objective is continued testing of the systems designed for Internet self-response and the integration of the systems associated with self-response. With the development of these systems, the Census Bureau has made the transition from in-house test systems created in prior years to the full systems designed under the Census Enterprise Data Collection and Processing (CEDCaP) contract. It is crucial to test and prove in the new systems in pre-decennial tests, starting with this 2017 Census Test. Internet Self-Response has been prioritized as the system to complete in time for the 2017 Census Test. The Internet Self-Response application will have a Spanish language option. Other key systems that will be tested are the CQA and the Operational Control System that is integrated with these two response modes. We will also test the ability to provision and run in a Cloud environment.

This test was described in the 60-day Federal Register Notice (FRN) published August 8, 2016, 81 FR 52398. Based on the proposed funding levels for FY 2017, the Census Bureau subsequently reprioritized the test activities for 2017 to include only one of the two components described in the August FRN. The current test scope includes only that which is necessary to answer our most immediate design questions. The scope also includes enabling our new Ceca systems to test systems integration for key systems. Further systems will be developed and tested through the integration stages in the planned 2018 End-to-End Census Test, in particular for the Nonresponse Followup and Update Enumerate operations. The 2018 End-to-End Census Test will be the last opportunity to test all systems in an integrated environment before full implementation in the 2020 Census.

Affected Public: Individuals or Households.

Frequency: One time.

Respondent's Obligation: Mandatory.

Legal Authority: Title 13, United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
PRA Departmental Lead, Office of the Chief Information Officer.

[FR Doc. 2016-28853 Filed 11-30-16; 8:45 am]

BILLING CODE 3510-07-P